DEPARTMENT OF THE INTERIOR

Bureau of Land Management

[MT-912-0777-HN-003E]

Notice of Implementation of Level 4 Fire Restrictions in Western and Central Montana; Montana

AGENCY: Bureau of Land Management, Interior.

ACTION: Notice.

SUMMARY: Bureau of Land Management Montana State Director Mat Millenbach has initiated Level 4 fire restrictions, effective August 15, 2000, on the BLM lands in the Montana counties listed below. These restrictions strengthen and encompass those initiated last week on BLM lands and are in response to the regions's increasing fire potentials, the current level of fire activity, and the current scarcity of fire suppression resources.

The Level 4 fire restrictions apply to BLM lands in: Lincoln, Sanders, Flathead, Lake, Glacier, Toole, Pondera, Teton, east Lewis and Clark, Cascade, Meagher, Broadwater, Jefferson, Beaverhead, Madison, Gallatin, Park, Sweetgrass, Stillwater, and Carbon counties.

With Level 4 fire restrictions, the following activities are prohibited on BLM managed lands:

Building, maintaining, attending, or using a campfire or any open fire is prohibited (43 CFR 9212.1(h)). Petroleum fueled stoves and lanterns or heating devices are not considered fires, provided such devices meet Fire Underwriters' specifications for safety.

Smoking, except within an enclosed vehicle or building; at an improved place of habitation; at a developed, designated recreation site or campground; or while stopped in an area at least 3 feet in diameter that is cleared of all flammable material, is prohibited (43 CFR 9212.1(h)).

Use of chainsaws or other equipment with internal combustion engines for felling, bucking, skidding/wood cutting, road-building, and other high fire risk operations is prohibited. Exceptions are helicopter yarding and earth moving on areas of cleared and bare soil. Sawing incidental to loading operations on cleared landings is not necessarily restricted (43 CFR 9212.1(h)).

Welding, blasting (except seismic operations confined by ten or more feet of soil, sand or cuttings), and other activities with a high potential for causing wildland fires are prohibited (43 CFR 9212.1(h)).

A patrol is required for a period of one hour following the cessation of all work activity. The patrolperson's responsibilities include checking for compliance with required fire precautions.

Possessing or using motorized vehicles such as, but not limited to cars, trucks, trail bikes, motorcycles and all terrain vehicles off of cleared roads is prohibited except for persons engaged in a trade, business or occupation in the area. Cleared roads are defined as roads at least 12′ wide and cleared of vegetation shoulder to shoulder (43 CFR 9212.1(h)).

These restrictions are in addition to the following area closures which became effective August 5, 2000. Specific closures include: Departure Point Campground at Holter Lake T 14 N, R 3 W, Sec 23, NE¼; Sleeping Giant Area including BLM lands along the west shore of Holter Lake from Jackson Peak to the southern boundary across from Mann Gulch and east to I-15; Galena Gulch T6N, R5W, Sec 23, SE¼ and Crow Creek Campgrounds T6N, R1W, Sec 25, N½; and Spokane Hills including BLM lands on the west side of Canyon Ferry Reservoir from Canyon Ferry Dam south to the White Earth Recreation site and west to Highway 287.

Exemptions to the above prohibitions are allowed only for any Federal, State, or local officer, or member of an organized rescue or firefighting force in the performance of an official duty, or persons with a permit or written authorization allowing the otherwise prohibited act or omission.

Authority for these prohibitions is pursuant to the Federal Land Policy and Management Act of 1976 (43 U.S.C. 1701, et seq.), Sections 302(b) and 301(a); and Title 43 of the Code of Federal Regulations, Part 9210 (Fire Management), Subpart 9212 (Wildfire Prevention). These restrictions will become effective at 1 a.m., Mountain Daylight Time, Tuesday, August 15, 2000, and will remain in effect until rescinded or revoked.

Violation of this prohibition is punishable by a fine of not more than $1,000 or imprisonment for not more than 12 months, or both.

DATES: Restrictions go into effect Tuesday, August 15, 2000, and remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: August 14, 2000.
Mat Millenbach,
State Director.

[FR Doc. 00-21046 Filed 8-15-00; 11:28 am]

BILLING CODE 4310-$$-P